DEPARTMENT OF TRANSPORTATION

Surface Transportation Board

[Docket No. FD 35520; Docket No. FD 35518; Docket No. FD 35519]

The New Brunswick Railway Company; Notices of Exemptions

AGENCY: Surface Transportation Board, DOT.

ACTION: Notices of exemptions.

[Docket No. FD 35520]

The New Brunswick Railway Company—Continuance in Control Exemption—Maine Northern Railway Company

[Docket No. FD 35518]

Maine Northern Railway Company—Trackage Rights Exemption—Montreal, Maine & Atlantic Railway, Ltd.

[Docket No. FD 35519]

Maine Northern Railway Company—Trackage Rights Exemption—Montreal, Maine & Atlantic Railway, Ltd.

SUMMARY: In Docket No. 35520, the Board grants an exemption, under 49 U.S.C. 10502, from the prior approval requirements of 49 U.S.C. 11323-25 for The New Brunswick Railway Company (NBRC) to continue in control of Maine Northern Railway Company (MNRC) and Eastern Maine Railway once MNRC becomes a Class III carrier. The Board makes the exemption effective on June 15, 2011. Additionally, in related Docket Nos. FD 35518 and FD 35519, the Board makes MNRC's authority to exercise trackage rights granted by the Montreal, Maine & Atlantic Railway, Ltd. effective on June 15, 2011.

DATES: These exemptions will be effective on June 15, 2011. Petitions for stay must be filed by June 10, 2011, and petitions for reconsideration in Docket No. FD 35520 must be filed by June 10, 2011.

ADDRESSES: An original and 10 copies of all pleadings, referring to Docket Nos. 35518, 35519, and 35520 must be filed with the Surface Transportation Board, 395 E Street, SW., Washington, DC 20423-0001. In addition, a copy of each pleading must be served on the parties' representative: Karyn A. Booth, Thompson Hine LLP, Suite 800, 1920 N Street, NW., Washington, DC 20036.

FOR FURTHER INFORMATION CONTACT: Joseph H. Dettmar, (202) 245-0395. [Assistance for the hearing impaired is available through the Federal Information Relay Service (FIRS) at 1-800-877-8339.]

SUPPLEMENTARY INFORMATION: Additional information is contained in the Board's decision. Board decisions and notices are available on our Web site at http://www.stb.dot.gov.

Decided: June 3, 2011.
By the Board, Chairman Elliott, Vice Chairman Begeman, and Commissioner Mulvey.
Andrea Pope-Matheson,
Clearance Clerk.

[FR Doc. 2011-14215 Filed 6-8-11; 8:45 am]

BILLING CODE 4915-01-P